DEPARTMENT OF ENERGY

Federal Energy Regulatory Commission

[Project No. 2880-015]

Cherokee Falls Hydroelectric Project, LLC; Notice of Application Ready for Environmental Analysis, and Soliciting Comments, Recommendations, Terms and Conditions, and Prescriptions

Take notice that the following hydroelectric application has been filed with the Commission and is available for public inspection.

a. Type of Application: New Major License.

b. Project No.: 2880-015.

c. Date filed: July 31, 2019.

d. Applicant: Cherokee Falls Hydroelectric Project, LLC.

e. Name of Project: Cherokee Falls Hydroelectric Project (Cherokee Falls Project).

f. Location: The existing project is located on the Broad River, in Cherokee County, South Carolina. The project does not affect federal land.

g. Filed Pursuant to: Federal Power Act, 16 U.S.C. 791(a)-825(r).

h. Applicant Contact: Beth E. Harris, Southwest Regional Engineer, Enel Green Power North America, Inc., 11 Anderson Street, Piedmont, SC 29673; Telephone (864) 846-0042 ext. 100; Beth.Harris@Enel.com.

i. FERC Contact: Michael Spencer at (202) 502-6093, or at michael.spencer@ferc.gov.

j. Deadline for filing comments, recommendations, terms and conditions, and prescriptions: Sixty (60) days from the issuance date of this notice; reply comments are due one hundred five (105) days from the issuance date of this notice.

All filings must (1) bear in all capital letters the title COMMENTS, REPLY COMMENTS, RECOMMENDATIONS, TERMS AND CONDITIONS, or PRESCRIPTIONS; (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed in the service list prepared by the Commission in this proceeding, in accordance with 18 CFR 4.34(b) and 385.2010.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2880-015.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. Project Description: Cherokee Falls Project consists of: (1) A 1,819-foot-long granite masonry dam with a 1,701-foot-long spillway and 4-foot-high flashboards; (2) ten low level outlet pipes along the middle portion of dam, four of which are at least partially open and used to provide a continuous minimum flow to the bypassed reach; (3) a reservoir with a surface area of 83 acres and a storage capacity of 140 acre-feet; (4) a trash rack intake with 3.5 inch spacing between the bars; (5) a 130-foot-long, 40-foot-wide powerhouse containing one generating unit with a capacity of 4,140 kilowatts and an annual generation of 9,354.9 megawatt-hours; (6) a 150-foot-long tailrace; (7) 93-foot-long generator lines leading to three 500 kilovolt transformers and (8) a 200-foot-long transmission line to a point of interconnection with the grid.

The project is operated in a run-of-river mode with a continuous, minimum flow of 97 to 270 cubic feet per second (cfs) supplied to the bypassed reach. The current license requires a minimum flow of 65 cfs. Project operation starts when inflows exceed the sum of the minimum hydraulic capacity of the turbine (600 cfs) and the minimum flow supplied to the bypassed reach. All flows greater than the sum of the maximum hydraulic capacity of the turbine (3,100 cfs) and the bypassed reach minimum flow, are passed over the spillway.

m. A copy of the application is available for review at the Commission in the Public Reference Room, or may be viewed on the Commission's website at http://www.ferc.gov using the eLibrary link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via email of new filings and issuances related to this or other pending projects. For assistance, contact FERC Online Support.

n. Procedural Schedule: The application will be processed according to the following schedule. Revisions to the schedule may be made as appropriate.

Milestone | Target date
Filing of recommendations, terms and conditions, and prescriptions | April 2020.
Commission issues Environmental Assessment (EA) | December 2020.
Comments on EA | January 2021.

o. Final amendments to the application must be filed with the Commission no later than thirty (30) days from the issuance date of this notice.

Dated: March 20, 2020.
Kimberly D. Bose,
Secretary.

[FR Doc. 2020-06328 Filed 3-25-20; 8:45 am]

BILLING CODE 6717-01-P